Proclamation 9981 of January 24, 2020

National Day of Remembrance of the 75th Anniversary of the Liberation of Auschwitz, 2020

By the President of the United States of America

A Proclamation

On the 75th anniversary of the liberation of Auschwitz, we remember the 6 million Jews who perished in the Holocaust and pay tribute to the American soldiers and other Allied Forces who fought tirelessly to defeat the Nazi regime. We also recommit ourselves to the fight against anti-Semitism and to the two words that cannot be repeated often enough: Never Again.

Driven by virulent hatred and unspeakable cruelty, the Nazis implemented a systematic and methodical plan to exterminate the Jewish people and others they deemed undesirable. Two out of three Jews in Europe and millions of other people were murdered. They were sent to ghettos, concentration camps, and death camps where they were persecuted, imprisoned, starved, tortured, and executed. It is simply unthinkable that such barbarity occurred just 75 years ago.

The courageous survivors of the Holocaust continuously relive the nightmares of their experience. But they have persevered to bear witness so that all of us today and in the future never forget the Nazis' unconscionable attempt to destroy the Jewish people. Their undaunted spirit compels us to ensure that their stories live on. Those who are filled with hate must never succeed in their efforts to minimize, deny, or erase the Holocaust from our memories or our history books. We have a fundamental and collective duty to ensure that each new generation knows the truth. The lessons of the Holocaust must forever be engrained in the consciousness of humanity so that we can fulfill our solemn and sacred promise that such evil and hatred will never again come to power.

In the ultimate act of defiance, the Jewish people rose up from the ashes of the Holocaust to found and build the modern State of Israel. As I have said in the past, the State of Israel is an eternal monument to the undying strength of the Jewish people. To those who will seek the destruction of Israel and the Jewish people, we say: Never Again.

Today, we honor the memory of those who were killed in the Holocaust. We cherish the survivors who ensured the perpetuation of the Jewish people. And we offer a debt of gratitude that can never be repaid to our brave soldiers who sacrificed everything for freedom.

NOW, THEREFORE, I, DONALD J. TRUMP, President of the United States of America, by virtue of the authority vested in me by the Constitution and the laws of the United States, do hereby proclaim January 27, 2020, as a National Day of Remembrance of the 75th Anniversary of the Liberation of Auschwitz. On this day, I call upon all Americans to observe this day with programs, ceremonies, prayers, and commemorations to honor the memory of the victims of the Holocaust and Nazi persecution and also acknowledge the sacrifices of those men and women who helped liberate the victims of this atrocity.

IN WITNESS WHEREOF, I have hereunto set my hand this twenty-fourth day of January, in the year of our Lord two thousand twenty, and of the Independence of the United States of America the two hundred and forty-fourth.

[FR Doc. 2020-01814

Filed 1-28-20; 11:15 am]

Billing code 3295-F0-P